DEPARTMENT OF EDUCATION

Privacy Act of 1974; System of Records—Federal Student Aid Application File (18-11-01)

AGENCY: Department of Education.

ACTION: Correction.

SUMMARY: We publish this notice to correct the Federal Student Aid Application File (18-11-01) by restoring a routine use for disclosures to third parties under computer matching programs that was inadvertently deleted when this notice was republished in the Federal Register. This restored routine use reflects that we disclose information that applicants provide in their applications for Federal student financial aid to other entities under approved computer matching programs for the purpose of verifying that application information.

DATES: The routine uses added by this notice are effective on April 11, 2001.

FOR FURTHER INFORMATION CONTACT: John Tressler, Office of Chief Information Officer, U.S. Department of Education, 400 Maryland Avenue, SW., room 4050 Regional Office Building 3, Washington, DC 20202-4580. Telephone: (202) 708-8900. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

General

On June 4, 1999, we republished in the Federal Register (64 FR 30105) virtually all of our systems of records, including this system of records. Due to technical errors, we amended this system of records in the Federal Register of December 27, 1999 (64 FR 72407) to correct the categories of records in the system. In the Federal Register of March 2, 2000 (65 FR 11294-95), we added routine uses numbers 10-15 to this system of records.

We recently discovered that we had inadvertently deleted a routine use involving disclosures to third parties under computer matching programs (former routine use j) from the Federal Student Aid Application File (18-11-01) when we republished this notice in the June 4, 1999 Federal Register. This notice restores that routine use.

Correction

In the Notice of New, Amended, Altered and Deleted Systems of Records published in the Federal Register on June 4, 1999 (64 FR 30105), make the following correction beginning on page 30160, in the first column, in the notice entitled “Federal Student Aid Application File (18-11-01),” under the heading “Routine Uses of Records Maintained in the System, Including Categories of Users and Purposes of Such Users,” add the following numbered paragraph (16)

Note: Since the March 2, 2000 notice added routine uses numbers 10-15, this routine use is added as number (16)

(16) Disclosures to third parties through computer matching programs. Any information from this system of records, including personal information obtained from other agencies through computer matching programs, may be disclosed to any third party through a computer matching program in connection with an individual's application or participation in any grant or loan program administered by the U.S. Department of Education. Purposes of these disclosures may be to determine program eligibility and benefits, enforce the conditions and terms of the loan or grant, permit the servicing and collecting of the loan or grant, counsel the individual in repayment efforts, investigate possible fraud and verify compliance with program regulations, locate a delinquent or defaulted debtor, and initiate legal action against an individual involved in program fraud or abuse.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: April 6, 2001.
Craig B. Luigart,
Chief Information Officer.

[FR Doc. 01-8926 Filed 4-10-01; 8:45 am]

BILLING CODE 4000-01-P